DEPARTMENT OF LABOR

Employment and Training Administration

[TA-W-53,408]

Elastic Corporation of America, Inc., a Division of Worldtex, Inc., Woolwine, VA; Notice of Termination of Investigation

Pursuant to section 221 of the Trade Act of 1974, as amended, an investigation was initiated on November 3, 2003, in response to a worker petition filed by a company official on behalf of workers at Elastics Corporation of America, Inc., a division of Worldtex, Inc., Woolwine, Virginia.

The petitioner has requested that this petition be withdrawn. Consequently, the investigation has been terminated.

Signed at Washington, DC, this 26th day of November, 2003.
Elliott S. Kushner,
Certifying Officer, Division of Trade Adjustment Assistance.

[FR Doc. 03-32276 Filed 12-31-03; 8:45 am]

BILLING CODE 4510-30-P